DEPARTMENT OF HEALTH AND HUMAN SERVICES

Centers for Disease Control and Prevention

[60Day-15-15AMG; Docket No. CDC-2015-0040]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the FoodNet Population Survey which is a telephone-based survey to gather information to estimate the total number of acute diarrheal illnesses in the U.S. and assess the frequency of exposures commonly associated with foodborne illness.

DATES: Written comments must be received on or before August 17, 2015.

ADDRESSES: You may submit comments, identified by Docket No. CDC-2015-0040 by any of the following methods:

• Federal eRulemaking Portal: Regulation.gov. Follow the instructions for submitting comments.

• Mail: Leroy A. Richardson, Information Collection Review Office, Centers for Disease Control and Prevention, 1600 Clifton Road, NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road, NE., MS-D74, Atlanta, Georgia 30329; phone: 404-639-7570; Email: omb@cdc.gov.

SUPPLEMENTARY INFORMATION:

Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

FoodNet Population Survey—Existing Collection In Use Without an OMB Control Number—National Center for Emerging and Zoonotic Infectious Diseases, Centers for Disease Control and Prevention (CDC).

Background and Brief Description

Foodborne illnesses represent a significant public health burden in the United States. It is estimated that each year, 48 million Americans (1 in 6) become ill, 128,000 are hospitalized, and 3,000 die as the result of a foodborne illness. Since 1996, the Foodborne Diseases Active Surveillance Network (FoodNet) has conducted active population-based surveillance for Campylobacter, Cryptosporidium, Cyclospora, Listeria, Salmonella, Shiga toxin-producing Escherichia coli O157 and non-O157, Shigella, Vibrio, and Yersinia infections. Data from FoodNet serves as the nation's “report card” on food safety by monitoring progress toward CDC Healthy People 2020 objectives.

Evaluation of efforts to control foodborne illnesses can only be done effectively if there is an accurate estimate of the total number of illness that occur and if these estimates are recalculated and monitored over time. Estimates of the total burden start with accurate and reliable estimates of the number of acute gastrointestinal illness episodes that occur in the general community. To more precisely estimate this and to describe the frequency of important exposures associated with illness, FoodNet created the Population Survey.

The FoodNet Population Survey is a survey of persons residing in the surveillance area. Data are collected on the prevalence and severity of acute gastrointestinal illness in the general population, describe common symptoms associated with diarrhea, and determine the proportion of persons with diarrhea who seek medical care. The survey also collects data on exposures (e.g. food, water, animal contact) commonly associated with foodborne illness. Information about food exposures in the general public has proved invaluable during outbreak investigations. The ability to compare exposures reported by outbreak cases to the `background' exposure in the general population allows investigators to more quickly pinpoint a source and enact control measures.

To date, five 12-month cycles of the survey have been completed: 1996-1997, 1998-1999, 2000-2001, 2002-2003, and 2006-2007. Data has been shared with participating state health departments and multiple programs at CDC, is available to the public through a summary report posted to the FoodNet Web site, and also available via individual data requests. More than two dozen manuscripts highlighting population survey data have been published.

CDC seeks approval for an OMB Control number to continue this important work. There is no cost to the respondents other than their time.

Estimated Annualized Burden Hours
Type of respondents | Form name | Number of respondents | Number of responses per respondent | Average burden per response (in hrs.) | Total burden (in hrs.)
U.S. General Population | Population Survey | 18,000 | 1 | 20/60 | 6,000
Total |  |  |  |  | 6,000

Leroy A. Richardson,
Chief, Information Collection Review Office, Office of Scientific Integrity, Office of the Associate Director for Science, Office of the Director, Centers for Disease Control and Prevention.

[FR Doc. 2015-14709 Filed 6-15-15; 8:45 am]

BILLING CODE 4163-18-P